DEPARTMENT OF DEFENSE

Office of the Secretary

[Docket ID: DOD-2021-OS-0065]

Proposed Collection; Comment Request

AGENCY: Chief Information Officer, Department of Defense (DoD).

ACTION: Information collection notice.

SUMMARY: In compliance with the Paperwork Reduction Act of 1995, the Department of Defense Chief Information Officer (DoD CIO) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 20, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Department of Defense Chief Information Officer 6000 Defense Pentagon, Washington, DC 20301-6000 ATTN: Mr. Rodney McCall, or call (703) 697-5936.

SUPPLEMENTARY INFORMATION: Title; Associated Form; and OMB Number: DoD Cyber Scholarship Program; OMB Control Number 0704-0486.

Needs and Uses: DoD Cyber Scholarship Program (CySP), authorized by 10 U.S.C. 2200 is designed to: Increase the number of new entrants to DoD who possess key Information Assurance (IA) and Information Technology (IT) skill sets; and serve as a tool to develop and retain well-educated military and civilian personnel who support the Department's critical IT management and infrastructure protection functions. The DoD CySP recruitment track is for college students who, upon completion of the program, will work for the DoD. Pending availability of funds, the DoD CySP may also award capacity-building grants to colleges and universities designated as National Centers of Academic Excellence in Cybersecurity, (NCAE-Cs) for such purposes as developing cyber curricula and faculty, and building cyber laboratories. The recruitment track and institutional capacity-building grant programs both require a competitive application process. Recruitment scholarship applicants submit written documentation detailing their credentials. NCAE-Cs interested in applying for capacity-building grants must complete and submit a written proposal, and all NCAE-Cs receiving grants must provide documentation detailing the use of grant funding and the outcomes of the capacity-building initiative. DoD requires this information collection to measure the performance of the capacity-building components of the DoD CySP. DoD uses the information collected in the scholarship application process to assess the quality of applicants selected for inclusion in the DoD CySP. Without this written documentation detailing scholarship applicants' credentials, grant proposals, and grant execution accomplishments, the DoD has no means of judging the quality of applicants to the program or collecting information regarding program performance.

Affected Public: Individuals or households (Student Applicants); Not-for-profit Institutions; State, Local or Tribal Government; Businesses or other for-profit (Academic Institutions).

Annual Burden Hours: 5,810.

Number of Respondents: 690.

Responses per Respondent: 1.

Annual Responses: 690.

Average Burden per Response: 8.42 hours.

Frequency: On Occasion.

Dated: July 14, 2021.
Aaron T. Siegel,
Alternate OSD Federal Register, Liaison Officer, Department of Defense.

[FR Doc. 2021-15372 Filed 7-19-21; 8:45 am]

BILLING CODE 5001-06-P